DEPARTMENT OF TRANSPORTATION

Federal Highway Administration

Environmental Impact Statement; Washington, DC

AGENCY: U.S. Federal Highway Administration, District of Columbia Division; District of Columbia, Department of Transportation.

ACTION: Notice of Intent to Prepare a Draft Environmental Impact Statement (DEIS).

SUMMARY: The U.S. Federal Highway Administration (FHWA) in coordination with the District of Columbia Department of Transportation (DDOT) in Washington, DC is issuing this notice to advise agencies and the public that a Draft Environmental Impact Statement (DEIS) will be prepared to assess the impacts of the proposed reconstruction of the Virginia Avenue Tunnel in Washington, DC. The tunnel is owned and operated by CSX Transportation, Inc. (CSX), and is an integral feature of CSX's freight rail network that encompasses about 21,000 route miles of track in 23 states, the District of Columbia and the Canadian provinces of Ontario and Quebec. The tunnel's reconstruction requires FHWA approval due to temporary construction impacts to the Southeast Freeway (I-695) and use of I-695 air rights.

FOR FURTHER INFORMATION CONTACT: Federal Highway Administration, District of Columbia Division: Mr. Michael Hicks, Environmental/Urban Engineer, 1900 K Street, Suite 510, Washington, DC 20006-1103, (202) 219-3513; or Mr. Faisal Hameed, Manager, Project Development & Environmental Division, Infrastructure Project Management Administration, District of Columbia, Department of Transportation, 55 M Street, SE., Suite 500, Washington, DC 20003, (202) 671-2326.

SUPPLEMENTARY INFORMATION: The environmental review of the reconstruction of Virginia Avenue Tunnel will be conducted in accordance with the requirements of the National Environmental Policy Act (NEPA) of 1969, as amended (42 U.S.C. 4371, et seq.), Council on Environmental Quality (CEQ) regulations (40 CFR parts 1500-1508), FHWA Code of Federal Regulations (23 CFR 771.101-771.137, et seq.), and all applicable Federal, State, and local government laws, regulations, and policies.

The EIS will replace the Environmental Assessment (EA) currently being prepared by FHWA and DDOT for the proposed reconstruction of Virginia Avenue Tunnel. Engineering, environmental and public involvement work or activities associated with the EA preparation conducted to date will be incorporated into preparing the EIS. Cooperating agencies will be notified of FHWA's intent to prepare an EIS for the proposed reconstruction of Virginia Avenue Tunnel. Notices will also be given to other agencies, private organizations, citizens, and interest groups that have previously expressed or are known to have interest in the project. Public input will continue to be solicited through the ongoing public involvement and outreach effort.

Public Scoping Meetings: DDOT has solicited public and agency comments on the proposed action through public scoping, including public meetings held on September 14, 2011 and November 30, 2011. To ensure that the full range of issues is identified early in the process, comments are invited from all interested and/or potentially affected parties. The location and time for any future public meeting will be publicized in at least one local daily newspaper. Written comments will be accepted throughout this process and can be forwarded to Faisal Hameed at the address provided above. Any future meeting will also be announced on the project Web site accessible at http://www.virginiaavenuetunnel.com. Meeting materials will be available at all public meetings and after the meetings from the project Web site. At all future meetings, oral and written comments may be given. Comments may also be sent to Faisal Hameed at the above project Web site.

Description of Primary Study Area and Transportation Needs

Virginia Avenue Tunnel is located in the Capitol Hill neighborhood of Washington, DC beneath eastbound Virginia Avenue SE from 2nd Street SE (west portal) to 11th Street SE (east portal), a distance of approximately 3,800 feet. This section of Virginia Avenue SE is adjacent to or in close proximity to the U.S. Marine Corps recreation facility, National Park Service properties, residences and a few businesses. The Southeast Freeway abuts the north side of Virginia Avenue SE throughout nearly all the project limits.

In order to meet the freight transportation needs of the 21st century, the capacity and condition of freight rail infrastructure must keep pace. Overall freight tonnage is projected to increase by 50 percent in 2040 from 2010 levels, and freight rail is expected to accommodate a substantial share of the future increase demand for freight land transportation in the U.S. The current deficiencies of Virginia Avenue Tunnel prevent CSX from operating their freight rail network in the manner needed to meet the projected freight transportation demand through the District of Columbia. The interior height and width of Virginia Avenue Tunnel do not meet the needs of modern freight rail infrastructure due to its single track arrangement and the inability to accommodate double-stack intermodal container freight trains. The single-track presents a bottleneck in the system, preventing fluid operations along CSX's mainline rail network. Built over 100 years ago, the tunnel is nearing the end of its useful life and is subject to an ever increasing level of maintenance and repairs. During construction of the project, which may last approximately three years, CSX must be able to maintain freight transport through the District of Columbia. Determining how CSX will maintain their freight rail transport through the District of Columbia during reconstruction of the tunnel will be part of the environmental review for this project.

(Catalog of Federal Domestic Assistance Program Number 20.205 Highway Planning and Construction. The regulations and implementing Executive Order 12372 regarding intergovernmental consultation on Federal programs and activities apply to this program.)

Authority: 23 U.S.C. 315; 49 CFR 1.48.

Issued on: April 30, 2012.
Joseph C. Lawson,
Division Administrator, District of Columbia Division, Federal Highway Administration.

[FR Doc. 2012-10364 Filed 4-30-12; 8:45 am]

BILLING CODE 4910-22-P